DEPARTMENT OF TRANSPORTATION

Federal Highway Administration

Notice To Rescind a Notice of Intent To Prepare an Environmental Impact Statement: Peoria, Tazewell and Woodford Counties, Illinois

AGENCY: Federal Highway Administration (FHWA), Department of Transportation (DOT).

ACTION: Notice to rescind a notice of intent to prepare an environmental impact statement.

SUMMARY: The FHWA is issuing this notice to advise the public that an environmental impact statement (EIS) will not be prepared for the Eastern Bypass Study, a proposed highway within Peoria, Tazewell and Woodford Counties in Illinois. The termini for the bypass were proposed to be Interstate 74, east of the city of East Peoria, and Illinois Route 6, north of the City of Peoria. The FHWA is rescinding its notice of intent (NOI) to prepare a Tier I EIS which was published in the Federal Register on May 8, 2014.

FOR FURTHER INFORMATION CONTACT: For FHWA: Arlene K. Kocher, Division Administrator, Federal Highway Administration, 3250 Executive Park Drive, Springfield, Illinois 62703; telephone: (217) 492-4600; email address: Arlene.Kocher@dot.gov. For Illinois Department of Transportation: Kensil Garnett, P.E., Region 3 Engineer, Illinois Department of Transportation, 401 Main Street, Peoria, Illinois 61602-1111; telephone: (309) 671-3333; email: kensil.garnett@illinois.gov.

SUPPLEMENTARY INFORMATION: The FHWA, in cooperation with the Illinois Department of Transportation (IDOT), issued an NOI to prepare a Tier I EIS for the proposed Eastern Bypass Study on May 8, 2014 (79 FR 26497). The project was being considered in order to improve vehicular mobility and access across the Illinois River between Tazewell and Woodford Counties. The FHWA is rescinding the NOI because IDOT has no plans to continue the project study and no further activities will occur in its development.

Comments or questions concerning this notice should be directed to FHWA or the IDOT contacts provided in the FOR FURTHER INFORMATION CONTACT section of this notice.

(Catalog of Federal Domestic Assistance Program Number 20.205, Highway Research, Planning and Construction. The regulations implementing Executive Order 12372 regarding intergovernmental consultation on Federal programs and activities apply to this program).

Authority: 42 U.S.C. 4321 et seq.; 23 CFR part 771.

Dated: February 25, 2021.
Arlene K. Kocher,
Division Administrator, Federal Highway Administration, Springfield, Illinois.

[FR Doc. 2021-04321 Filed 3-2-21; 8:45 am]

BILLING CODE 4910-22-P